DEPARTMENT OF COMMERCE

National Oceanic and Atmospheric Administration

RIN 0648-XA014

Pacific Fishery Management Council; Public Meeting

AGENCY: National Marine Fisheries Service (NMFS), National Oceanic and Atmospheric Administration (NOAA), Commerce.

ACTION: Notice of public meetings.

SUMMARY: The Pacific Fishery Management Council's (Council's) Ad Hoc Groundfish Essential Fish Habitat Review Committee (EFHRC) will hold a work session, which is open to the public, to plan the periodic 5-year review of groundfish Essential Fish Habitat (EFH).

DATES: The work session will be held Monday, December 20, 2010 from 9 a.m. to 4 p.m.

ADDRESSES: The work session will be held at the Hyatt Place Hotel Portland Airport, 9750 NE Cascades Parkway, Portland, OR 97220, (503) 288-2808.

Council Address: Pacific Fishery Management Council, 7700 NE Ambassador Place, Suite 101, Portland, OR 97220-1384.

FOR FURTHER INFORMATION CONTACT: Mr. Chuck Tracy, Staff Officer, Pacific Fishery Management Council; telephone: (503) 820-2280.

SUPPLEMENTARY INFORMATION: The purpose of the work session is to develop recommendations for the process and scope of the groundfish EFH periodic 5-year review, and for the role of the EFHRC in that review. Recommendations are tentatively scheduled to be presented to the Council at the April 2011 Council meeting in San Mateo, CA.

Although non-emergency issues not contained in the meeting agenda may come before the EFHRC for discussion, those issues may not be the subject of formal EFHRC action during this meeting. EFHRC action will be restricted to those issues specifically listed in this notice and any issues arising after publication of this notice that require emergency action under section 305(c) of the Magnuson-Stevens Fishery Conservation and Management Act, provided the public has been notified of the EFHRC's intent to take final action to address the emergency.

Special Accommodations

This meeting is physically accessible to people with disabilities. Requests for sign language interpretation or other auxiliary aids should be directed to Ms. Carolyn Porter at (503) 820-2280 at least 5 days prior to the meeting date.

Dated: October 29, 2010.
Tracey L. Thompson,
Acting Director, Office of Sustainable Fisheries, National Marine Fisheries Service.

[FR Doc. 2010-27744 Filed 11-2-10; 8:45 am]

BILLING CODE 3510-22-P